DEPARTMENT OF LABOR

Employment and Training Administration

[TA-W-52,609]

Coastal Lumber Company, A/K/A Hazelton Wood Components Division, Bruceton Mills, WV; Notice of Revised Determination on Reconsideration Regarding Eligibility To Apply for Worker Adjustment Assistance and Alternative Trade Adjustment Assistance

By letter dated October 15, 2003, Construction Works of West Virginia, Inc., a Division of West Virginia State and Building Construction Trades Council and West Virginia AFL-CIO, requested administrative reconsideration regarding Alternative Trade Adjustment Assistance (ATAA). The certification was signed on September 23, 2003. The notice was published in the Federal Register on November 28, 2003 (68 FR 66879).

The initial certification was amended on October 24, 2003 to correctly identify the subject firm title name to read Coastal Lumber Company, a/k/a Hazelton Wood Components Division, Bruceton Mills, West Virginia. The notice will soon be published in the Federal Register.

The initial investigation determined that less than five percent of the affected worker group was age fifty or older.

The petitioner provided new information to show that at least five percent of the workforce at the subject from is at least fifty years of age. Additional investigation has determined that the workers possess skills that are not easily transferable. Competitive conditions within the industry are adverse.

Conclusion

After careful review of the additional facts obtained on reconsideration, I conclude that the requirements of Section 246 of the Trade Act of 1974, as amended, have been met for workers at the subject firm.

In accordance with the provisions of the Act, I make the following certification:

“All workers at Coastal Lumber Company, a/k/a Hazelton Wood Components Division, Bruceton Mills, West Virginia, who became totally or partially separated from employment on or after August 13, 2002 through September 23, 2005, are eligible to apply for adjustment assistance under Section 223 of the Trade Act of 1974, and are also eligible to apply for alternative trade adjustment assistance under Section 246 of the Trade Act of 1974.”

Signed in Washington, DC this 12th day of December 2003.
Linda G. Poole,
Certifying Officer, Division of Trade Adjustment Assistance.

[FR Doc. 03-32286 Filed 12-31-03; 8:45 am]

BILLING CODE 4510-30-P